INTERNATIONAL TRADE COMMISSION

[Investigation No. 337-TA-1206]

Certain Percussive Massage Devices; Institution of Investigation

AGENCY: U.S. International Trade Commission.

ACTION: Notice.

SUMMARY: Notice is hereby given that a complaint was filed with the U.S. International Trade Commission on June 17, 2020 under section 337 of the Tariff Act of 1930, as amended, on behalf of Hyper Ice, Inc. of Irvine, California. A supplement was filed on June 27, 2020. The complaint alleges violations of section 337 based upon the importation into the United States, the sale for importation, and the sale within the United States after importation of certain percussive massage devices by reason of infringement of certain claims of U.S. Patent No. 10,561,574 (“the '574 patent”); U.S. Design Patent No. D855,822 (“the 'D822 patent”); and U.S. Design Patent No. D886,317 (“the 'D317 patent”). The complaint further alleges that an industry in the United States exists as required by the applicable Federal Statute. The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on July 16, 2020, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-9, 14, and 15 of the '574 patent; the claim of the 'D822 patent; and the claim of the 'D317 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “therapeutic handheld percussive massage devices for applying percussive massage to a person's body”;

(3) For the purpose of the investigation so instituted, the following are hereby named as parties upon which this notice of investigation shall be served:

(a) The complainant is:

Hyper Ice, Inc., 525 Technology Drive, Suite 100, Irvine, CA 92618

(b) The respondents are the following entities alleged to be in violation of section 337, and are the parties upon which the complaint is to be served:

Addaday LLC, 2500 Broadway, Building F, 125, Santa Monica, CA 90404

Performance Health Systems, LLC, 401 Huehl Rd., Suite 2A, Northbrook, IL 60062

WODFitters, 6281 Corder Ln., Lorton, VA 22079

Massimo Motor Sports, LLC, 3101 W Miller Rd., Garland, TX 75041

Kinghood International Logistics Inc., 16851 Knott Ave., La Mirada, CA 90638

Manybo Ecommerce Ltd., Unit 622, Kwai Shun Ind. Centre, 51-63, Container Port Road, Kwai Chung, N.T., Hong Kong

Shenzhen Let Us Win-Win Technology Co., Ltd., 4F, No.229, Busha Road, Buji, Shenzhen, Guangdong Province, China 518000

Shenzhen Infein Technology Co., Ltd., 12-1, 1st Factory Building, Tian'an Digital Innovation Park, No. 441, Huangge Road, Longcheng Street, Longgang District, Shenzhen, Guangdong, China, 51800

Hong Kong Yongxu Capital Management Co., Ltd., Flat/Rm 1804, Beverly House, 93-107 Lockhart Road, Wanchai, Hong Kong, China 999077

Laiwushiyu Xinuan Trading Company, Chendaxia Village, Laiwu, Shandong District, China 271100

Shenzhen QingYueTang E-commerce Co., Ltd., Rm.1001, 10th Fl., Zhongken Building, No.2002 Bixin Rd., Longgang District, Shenzhen, Guangdong, China 518000

Shenzhen Shiluo Trading Co., Ltd., 37 East 305, Minli Old Village, Minzhi Street, Longhua New District, Shenzhen, Guangdong, China 518000

Kula eCommerce Co., Ltd., NO. 50, Danshui Baiyun Yi Road, Huiyang District, Huizhou City, Guangdong, China 516211

Fu Si, 621 Gongye Road, Longhua District, Shenzhen, Guangdong, China 518000

Shenzhen Qifeng Technology Co., Ltd., 1019, Weidonglong Technology Building, Meilong Boulevard, Longhua Sub-District, Longhua Ne W District Shenzhen, Guangdong, 518015 China

Rechar, Inc., 56157 Oak Ave., Strasburg, CO 80136

Ning Chen, Group 4 Yanyan Village, Luoqiao Town, 71 Hao, Funing, Yancheng, Jiangsu China 224400

Opove, 207 N Aspan Ave, Suite 2, Azusa, CA 91702

Shenzhen Shufang E-Commerce Co., Ltd., 602-2 Building 4, Zhangkeng Youpin, Cultural Creative Park Longhua District, Shenzhen China 518000

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: July 16, 2020.
Lisa Barton,
Secretary to the Commission.

[FR Doc. 2020-15814 Filed 7-21-20; 8:45 am]

BILLING CODE 7020-02-P